DEPARTMENT OF AGRICULTURE

Forest Service

Southwest Mississippi Resource Advisory Committee

AGENCY: Forest Service, USDA.

ACTION: Notice of meeting.

SUMMARY: The Southwest Mississippi Resource Advisory Committee will meet in Meadville, MS. The committee is authorized under the Secure Rural Schools and Community Self-Determination Act (Pub. L 112-141) (the Act) and operates in compliance with the Federal Advisory Committee Act. The purpose of the committee is to improve collaborative relationships and to provide advice and recommendations to the Forest Service concerning projects and funding consistent with the title II of the Act. The meeting is open to the public. The purpose of the meeting is to review and recommend projects authorized under title II of the Act.

DATES: The meeting will be held Tuesday, September 18, 2012; 6:00 p.m.

ADDRESSES: The meeting will be held at 3085 Hwy 98 East, Homochitto Ranger District Work Center. A map and directions may be obtained by calling the contact listed below.

Written comments may be submitted as described under Supplementary Information. All comments, including names and addresses when provided, are placed in the record and are available for public inspection and copying. The public may inspect comments received at Homochitto District Office. Please call ahead to 601-384-5876 to facilitate entry into the building to view comments.

FOR FURTHER INFORMATION CONTACT: Bruce Prud'homme, District Ranger, 601-384-5876, TTY 601-384-8056, bprudhomme@fs.fed.us or Dave Chabreck, Operations Leader, 601-384-5876, dochabreck@fs.fed.us, TTY 601-384-8056. Individuals who use telecommunication devices for the deaf (TDD) may call the Federal Information Relay Service (FIRS) at 1-800-877-8339 between 8:00 a.m. and 8:00 p.m., Eastern Standard Time, Monday through Friday.

SUPPLEMENTARY INFORMATION: The following business will be conducted: general business, previous project status updates, project funding, review and selection of proposed projects. A full agenda may be previewed at: https://fsplaces.fs.fed.us/fsfiles/unit/wo/secure_rural_schools.nsf/RAC/Southwest+Mississippi. Anyone who would like to bring related matters to the attention of the committee may file written statements with the committee staff before the meeting. The agenda will include time for people to make oral statements of three minutes or less. Individuals wishing to make an oral statement should request in writing by September 10, 2012 to be scheduled on the agenda. Written comments and requests for time for oral comments must be sent to 1200 Hwy 184 East, Meadville, MS 39653, or by email to bprudhomme@fs.fed.us, or via facsimile to 601-384-2172. A summary of the meeting will be posted at: https://fsplaces.fs.fed.us/fsfiles/unit/wo/secure_rural_schools.nsf/RAC/Southwest+Mississippi within 21 days of the meeting.

Meeting Accommodations: If you require sign language interpreting, assistive listening devices or other reasonable accommodation please request this in advance of the meeting by contacting the person listed in the section titled FOR FURTHER INFORMATION CONTACT. All reasonable accommodation requests are managed on a case by case basis.

Dated: August 21, 2012.
Bruce Prud'homme,
District Ranger.

[FR Doc. 2012-21188 Filed 8-27-12; 8:45 am]

BILLING CODE 3410-11-P